OFFICE OF PERSONNEL MANAGEMENT

Proposed Collection; Comment Request for Reclearance of Information Collection, OPM Form 805 Series

AGENCY: Office of Personnel Management.

ACTION: Notice.

SUMMARY: In accordance with the Paperwork Reduction Act of 1995 (Pub. L. 104-13, May 22, 1995), this notice announces that OPM will submit a request to the Office of Management and Budget for reclearance of the OPM Form 805 Series that collects information from the public. OPM Form 805, Application to be Listed Under the Voting Rights Act of 1965, is used to elicit information from persons applying for voter registration under the authority of the Voting Rights Act of 1965. The requirements for voter eligibility vary from State to State; therefore, OPM Form 805 is a blanket number covering a number of forms that conform to the individual State's requirements. For a number of years, there were forms for 10 States: Alabama, Arizona, Georgia, Louisiana, Mississippi, New Mexico, North Carolina, South Carolina, Texas (English and Spanish language versions), and Utah. Because OPM has never been asked to list voters in Arizona, New Mexico, North Carolina, and Utah, we allowed the approval of those forms to lapse in 1997 at the request of the Voting Rights Section in the Civil Rights Division of the Department of Justice. The form requires 20 minutes to complete. Approximately 10 individuals complete the form annually for a total public burden of 4 hours.

For copies of this proposal, call Ms. Mary Beth Smith-Toomey on (202) 606-8358 or email mbtoomey@opm.gov.

DATES: Comments on this proposal should be received on or before October 23, 2000.

ADDRESSES: Send or deliver comments to Anna Marie Schuh, Assistant Director for Merit Systems Oversight, Office of Personnel Management, 1900 E Street, NW., Room 7677, Washington, DC 20415-6000.

FOR FURTHER INFORMATION, CONTACT: P. Kaziah Clayton on (202) 606-2531 or email to pkclayto@opm.gov.

Office of Personnel Management.
Janice R. Lachance,
Director.

[FR Doc. 00-21475 Filed 8-22-00; 8:45 am]

BILLING CODE 6325-01-U